DEPARTMENT OF COMMERCE

National Oceanic and Atmospheric Administration

RIN 0648-XG677

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Management Team (HMSMT) will hold a meeting, which is open to the public.

DATES: The meeting will be held Wednesday, January 16, through Friday, January 18, 2019. The meeting will start at 1 p.m. on January 16 and 8:30 a.m. on January 17-18 and continue until business is concluded on each day.

ADDRESSES: The meeting will be held at Hyatt Place Portland Airport/Cascade Station, Meeting Place 3a, 9750 NE Cascades Parkway, Portland, OR 97220; phone: (503) 288-2808.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of this meeting is for the HMSMT to discuss and begin preparing reports for North Pacific albacore fishing effort characterization, management strategies for Pacific bluefin tuna, drift gillnet performance metrics, pelagic shallow-set longline scoping, and an updated analysis for the deep-set buoy gear range of alternatives. The HMSMT will also meet with the Ad Hoc Ecosystem Workgroup to discuss climate scenario planning topics.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: December 19, 2018.
Tracey L. Thompson,
Acting Deputy Director, Office of Sustainable Fisheries, National Marine Fisheries Service.

[FR Doc. 2018-27836 Filed 12-21-18; 8:45 am]

BILLING CODE 3510-22-P